ENVIRONMENTAL PROTECTION AGENCY

[ER-FRL-9021-2]

Environmental Impact Statements; Notice of Availability

Responsible Agency: Office of Federal Activities, General Information (202) 564-7146 or http://www.epa.gov/compliance/nepa/.

Weekly receipt of Environmental Impact Statements

Filed 05/18/2015 Through 05/22/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150137, Final, USACE, CA,Southport Sacramento River Early Implementation Project, Review Period Ends: 07/06/2015, Contact: Tanis Toland 916-557-6717.

EIS No. 20150138, Final, BLM, MT,HiLine District Proposed Resource Management Plan, Review Period Ends: 06/29/2015, Contact: Brian Hockett 406-262-2837.

EIS No. 20150139, Final, BLM, WY,Buffalo Proposed Resource Management Plan, Review Period Ends: 06/29/2015, Contact: Thomas Bills 307-684-1133.

EIS No. 20150140, Final, BLM, MT,Miles City Field Office Proposed Resource Management Plan, Review Period Ends: 06/29/2015, Contact: Mary Bloom 406-233-2800.

EIS No. 20150141, Final, BLM, SD,South Dakota Field Office Proposed Resource Management Plan, Review Period Ends: 06/29/2015, Contact: Mitch Iverson 605-892-7008.

EIS No. 20150142, Final, BLM, MT,Billings and Pompeys Pillar National Monument Proposed Resource Management Plan, Review Period Ends: 06/29/2015, Contact: Carolyn Sherve-Bybee 406-896-5234.

EIS No. 20150143, Final, BLM, ND,North Dakota Greater Sage-Grouse Proposed Land Use Plan Amendment, Review Period Ends: 06/29/2015, Contact: Ruth Miller 406-896-5023.

EIS No. 20150144, Final, BLM, MT,Lewistown Greater Sage-Grouse Proposed Land Use Plan Amendment, Review Period Ends: 06/29/2015, Contact: Adam Carr 406-538-1913.

EIS No. 20150145, Final, BLM, ID,Idaho and Southwestern Montana Greater Sage-Grouse Proposed Land Use Plan Amendments, Review Period Ends: 06/29/2015, Contact: Jonathan Beck 208-373-4070.

EIS No. 20150146, Final, BLM, CO,Northwest Colorado Greater Sage-Grouse Proposed Land Use Plan Amendments, Review Period Ends: 06/29/2015, Contact: Erin Jones 970-244-3008.

EIS No. 20150147, Final, BLM, WY,Wyoming Greater Sage-Grouse Proposed Land Use Plan Amendments, Review Period Ends: 06/29/2015, Contact: William West 307-352-0259.

EIS No. 20150148, Final, BLM, NV,Nevada and Northeastern California Greater Sage-Grouse Proposed Land Use Plan Amendments, Review Period Ends: 06/29/2015, Contact: Lauren Mermejo 775-861-6580.

EIS No. 20150149, Final, BLM, UT,Utah Greater Sage-Grouse Proposed Land Use Plan Amendments, Review Period Ends: 06/29/2015, Contact: Quincy Bahr 801-539-4122.

EIS No. 20150150, Final, BLM, WY,Bighorn Basin Proposed Resource Management Plan, Review Period Ends: 06/29/2015, Contact: Holly Elliott 307-347-5193.

EIS No. 20150151, Draft, USFS, CO,Spruce Beetle Epidemic and Aspen Decline Management Response, Comment Period Ends: 07/14/2015, Contact: Scott Williams 760-382-7371.

EIS No. 20150152, Final, BLM, OR,Oregon Greater Sage-Grouse Proposed Land Use Plan Amendments, Review Period Ends: 06/29/2015, Contact: Joan Suther 541-573-4445.

EIS No. 20150153, Final, STB, UT,Six County Association of Governments Construction and Operation between Levan and Salina, Review Period Ends: 06/28/2015, Contact: Philllis Johnson-Ball 202 245-0304.

EIS No. 20150154, Draft Supplement, USACE, CA,Delta Wetlands Project, Comment Period Ends: 07/13/2015, Contact: Marc A. Fugler 916-557-5255.

EIS No. 20150155, Draft, FEMA, OR,Southern Flow Corridor Project, Comment Period Ends: 07/13/2015, Contact: Mark Eberlein 425-487-4735.

Amended Notices

EIS No. 20150059, Draft, NMFS, WA,The Makah Tribe Request to Hunt Gray Whales, Comment Period Ends: 07/31/2015, Contact: Steve Stone 503-231-2317. Revision to the FR Notice Published 03/13/2015; Extending Comment Period from 06/11/2015 to 07/31/2015.

Dated: May 26, 2015.
Cliff Rader,
Director, NEPA Compliance Division, Office of Federal Activities.

[FR Doc. 2015-13037 Filed 5-28-15; 8:45 am]

BILLING CODE 6560-50-P